DEPARTMENT OF AGRICULTURE

Forest Service

Grand Mesa, Uncompahgre and Gunnison National Forests; Colorado; Revision of the Land and Resource Management Plan for the Grand Mesa, Uncompahgre, and Gunnison National Forests

AGENCY: Forest Service, USDA.

ACTION: Notice to extend the public scoping period for the notice of intent to revise the Grand Mesa, Uncompahgre and Gunnison Land and Resource Management Plan and to prepare an environmental impact statement.

SUMMARY: The Grand Mesa, Uncompahgre, and Gunnison (GMUG) National Forests are revising their Land and Resource Management Plan (Forest Plan) and will prepare an Environmental Impact Statement (EIS) for the revised Forest Plan. A Notice of Intent for this project was published in the Federal Register on April 3, 2018 and initiated the scoping comment period. This comment period has been extended by thirty days until June 2, 2018 to provide additional time for review and feedback. The GMUG has published the initial scoping material, as well as other helpful resources, on its website at www.fs.usda.gov/goto/gmug/forestplan.

DATES: Comments on the notice of intent that published on April 3, 2018 at 83 FR 14243 concerning the scoping material must be received by June 2, 2018.

ADDRESSES: Comments may be submitted electronically online at http://www.fs.usda.gov/goto/gmug/forestplan_comments, via email to gmugforestplan@fs.fed.us, by post to GMUG National Forests, Attn: Forest Plan Revision Team, 2250 S Main St., Delta, CO, 81416, or via facsimile to 970-874-6698. All comments, including names and addresses when provided, are placed in the record and are available for public inspection and copying. The public may inspect comments received by visiting the public reading room online at http://www.fs.usda.gov/goto/gmug/forestplan_readingroom.

FOR FURTHER INFORMATION CONTACT: Please contact Forest Plan Revision Team Leader Samantha Staley at (970) 874-6666 or Assistant Forest Planner Brittany Duffy at (970) 874-6649, or via email to gmugforestplan@fs.fed.us. Additional information concerning the planning process can be found online at http://www.fs.usda.gov/goto/gmug/forestplan.

Dated: April 20, 2018.
Chris French,
Associate Deputy Chief, National Forest System.

[FR Doc. 2018-09548 Filed 5-3-18; 8:45 am]

BILLING CODE 3411-15-P